DEPARTMENT OF THE TREASURY

Internal Revenue Service

Quarterly Publication of Individuals, Who Have Chosen to Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending December 31, 2022. For purposes of this listing, long-term residents, as defined in section 877(e)(2), are treated as if they were citizens of the United States who lost citizenship.

Last name | First name | Middle name/initials
ADAMS | BARBARA | ANNE
AGOTHA | ANTHONY | WILLEM PAUL
AHING | KIMBERLY | NATASHA
AHMED | MUSTAFA |
ALEKNA | AUDRIUS | KESTUTIS
ALEXAKOS | ALEXANDER | NIKOLAOS
AL-SALMAN | YASIR | A.
ALTON-TRACY | RHONDA | MARIE
AMAKI | KENICKI |
ANDREJCIK | JAN |
ANDREWS | BELINDA | A.
ANDREWS | RICHARD |
ANNICCHINO | MICHELLE | S.
AOKI | JUN |
APARICIO BADENAS | CONRADO | J.
AQUINO | JILL | DAPHNE CHUA
AQUINO IV | SERAFIN | F.
ARAKI | KATSUYA |
ARAKI | KAYOKO |
ARAMONTE | SIRIO |
ARANGUIZ PETERSON | STONE | ALAN
ARCHER | JOHN | JOSEPH
ARRANZ | JAUME | MINGARD
ARTAUX | GASPARD | BILL
ASBUN | WADY | LUIS
ASHKAR | NATALIE |
ASHWORTH | IDA | VIRGINIA
ASSADI | RAMIN | FRANCIS
ATENCIO | ELISSA | TERESA
ATTALLAH-TOM | DANIEL | EDWARD
ATWELL | NEAL | ALAN
BABER | JON | CHRISTIAN
BAER | PATRICIA |
BAERWALDT | KIRK | LIKEN
BAHADIR | FRANZISKA |
BAHADIR | KEMAL | ATA
BAIN | JAMES | MASON
BAIN | VIOLA | M.
BAKER | PHILLIP | DAVID
BALLHORN | CAROLINE | MARGARET ALICE
BANG | EUN | MI
BANKS | CAROLYN | JANE
BANWELL | ANNE | MASON
BAO | XINRAN |
BARARIU | CATALIN |
BARNES | FRANCES | KATHLEEN
BARNES | IRMGARD |
BARON VAN VERSCHUER | WOLTER | FRANS
BARR | MICHAEL | LESLIE
BASSANO | DIONNE | MICHELLE
BATE | ANN | MARY
BAVARESCO | BRITTA | INGRID
BAZ | ANDRE | CAMILLE
BEATTY | TAYLOR | PATRICK
BECK | MICHELLE | KATHARINE
BECKER | SHANE | DAVID
BECKLEY | JEFFREY | A.
BELL | RICHARD | JOHN
BENNETT | MASON | WEST
BENOIT | HANNAH | RUTH
BENSON | ROGER | SHELTON
BERCOV | MARCIA |
BERINGER | JAMES | THEODORE
BERRILL | STEPHEN | MARC
BESSONE KAUFFMAN | GUSTAVO | ERNESTO
BEURTEAUX | DANIELLE |
BHATIA | MAYA | PILAR
BI | SHEN |
BIAN | JIANWEI |
BIEHN | TRAVIS | W.
BILDFELL | ROBERT | JOHN
BINE | CELINE | MAYA
BISCHOFF | THOMAS |
BISSETT | JESSIE | S.
BISSETT | THOMAS | SMITH
BLACK | AEZANI |
BLACKLER | CLARE | HAYLEY
BLAFF | HERBERT |
BLANCKART | NELE | ELS MARGRIET
BLOXHAM | WENDY | DAWN
BLYWEERT | STIJIN |
BOELE | PETER | CHRISTIAAN
BOISVERT | PIERRE | JEAN
BOLLIGER | NORAH | ESTELLE
BOOTH | AMANDA | JANE
BOOTH | SIMON | CHRISTOPHER
BOOTH-CASEY | LESLEY | LORAINE
BOULAY | MARJOLAINE | MONICA
BOURELY | JAMES | ALEC
BOYD | COLIN | T.
BRADLEY | MARK | ANDREW
BREMNER | BETH |
BRESKI | ELISABETH | DOROTHY
BRITTON | REBECCA | MATTHEWS
BROEMELING | JOHN | MICHAEL
BROMILOW | CATHERINE | LYNNE
BROOKS | DOUGLAS | JAMES
BROWN | PETER | MICHAEL
BROWN | TINA | MARIE
BRUYEA | REXFORD | PAUL
BUCHT | PETER | L.
BUECHI | NICOLE | EMMY
BUI | QUYNH | CAO NGOC
BUISSON | CLAIRE | DIANA
BUNTARAM | RUDHY |
BURGIN | AMY | ALLEGRA
BURKARD | JENNIFER | B.
BURKHOLDER | SHARON | ROSE
BURKHOLDER | TIMOTHY | JAMES
BURMANN | VANESSA | SANDRA
BURNET | DALE | MARSHALL
BURRELL | BRITNEY | V.
BUSHNELL | SUSANNE | LYNETTE
BUTLER | MELANIE | CLAIRE
BYRNE | AMANDA | JANE
BYRNE | GEOFFREY | MICHAEL
BYRNE | JOAN | LOUISE
CALLAHAN | KEVIN |
CANNOCK | JUSTIN | I.
CARNEY | STEPHEN | JASON
CASAS | JAVIER | ALEJANDRO
CASE | KATHRYN | HEIFRICH
CASTELLA | SIMON | RICHARD
CASTILLO | TAMI | LOU
CHAN | EUGENE | LING-HEEN
CHAN | SUET | MEI
CHANDLER | DAPHNE | JOAN
CHANG | HANNA | HAWON
CHANG | JENNY | SU CHUAN
CHANG | TUNGYAO |
CHANG | CHON-HOU |
CHAO | EDDIE |
CHARLES | KAREN | GAIL
CHARRIAUD | OLIVIER | JEAN
CHEN | CHIH | FU
CHEN | GRACE |
CHEN | LILLIAN |
CHEN | QING |
CHEN | STEVE |
CHEN | WEI |
CHEN | WEIDONG |
CHEUN | JAE | MYUNG
CHEUN | KYUNGWHOON |
CHINONE | KEISUKE |
CHO | EUN | JA
CHOI | ICK | SOO
CHOW | JONATHAN | C.
CHOW | JULIAN | KEE-JONG
CHOW | KEANU | YUN HUN
CHOW | SUMTAK | MARGARET LI
CHRISTIAN | BENJAMIN | JOHN
CHU | YING | HSIU
CHUANG | JULIAN | CHIA-YUH
CHUNG | KOK | LOON
CHUNGUE | DAVID | DIDIER
CIESIELSKI | TOMASZ | LEESZEK
CIMINO | MARIA | BETTINA
CININI | GUILHERME |
CLARKE | LINDA | JANE
CLARKE | RICHARD | NOEL
COLEMAN | ROGER | JOHN VICKERS
COLVIN | STUART | RAYMOND
CONFESSORE | GIOVANNI |
CONWAY | MARY | IRENE
COOKE | PETER | ROBERT
CORNETT | SONDRA | FAY
CORNOFSKY | DANIEL |
COX | FREDRICK | ALLEN
CRAWFORD | EVE | ELIAS
CRONIN | CLAIRE |
CROSSAN | JEREMIAH | JOHN
CUMPSTON BIRD | TERESA | ANNE GERALYNN
CUNNINGHAM | GRANT | M.
CURAC | MARINA |
DAIS-VISCA | JACQUELINE | M.
DANIEL | SARAH | RUTH
DAVIDS | REBECCA | SUSANNE
DAVIDSSON | HANS | ERIK
DAVIES | EDWARD | D.
DE ARAUJO TSCHACHTLI | EVELYNE |
DE BRUCKER | RAYMONDA |
DE CORDES | LEOPOLD | GUY ERIC MARIE
DE GROOT | CAROLINE | WENDY
DE GROOT | HANS | CHRISTIAAN
DE JONG | SARAH | JILL
DE LANGE | ALBERT | RICHARD
DE LUCA | ALEXANDER | EMIDIO
DEANE | CARL | RAYMOND
DECKER | CRYSTAL | YVONNE
DELFINO | JESSICA | MAE
DEMARCO | DANIEL | JOSEPH
DICKAU | KIMBERLEE | D.
DING | MENG |
DITTMANN | KRISTA | MARIE
DOMENGHINO | CHRISTOPHER | F.
DONALDSON | JANE | EVELYN
DONZE | ANNE-ELISABETH | LOUISE
DOWNEY | SHARON | GAIL
DOWNING | ALISON | JANE
DOWNING | MARK | AIDAN
DRUMMOND | JEREMY | NICHOLAS HUMPHREY
DRYBURGH | IAIN | COLIN
DRYBURGH | KATHRYN | LYNN
DRYSDALE | JENNIFER |
DU | HAITAO |
DUBOIS | SANDRA | SUE
DUNNE | PATRICK | H.
DYCK | WAYNE | D.
ECKHARDT | CATHERINE | ELLEN
ECKHARDT | GREGORY | WILLIAM
EDES | BARTLET | W.
EDGE | SHARON | AERONWY
EDWARDS | MURRAY | STUART
EGAN | DUNCAN | GEOFFREY
ELDER | SHIRLEY | A.
EL-DIEB | ADAM |
ELDRIDGE | HIZUKO | IIDA
ELIAS | JOCELYN | CORNELIA
ELLBERGER | EMILE | BENJAMIN
ENDO | AYAKO | ENDO
ENGLAND | SALLY |
ENTIS | MICHAEL | PETER
ENTIS | PHYLLIS |
EPSTEIN | LARRY | G.
ERMENIDIS | SYLVIE |
ESCOBEDO GONZALES | ESPERANZA | ROSE ELIANA
ESME | NUTREN |
ESQUIVIAS JORGE | RAQUEL |
EVANS | KEVIN | EARL
EVANS | WENDELYN | A.
EYLMANN | MARC | O.
EYLMANN | SEHEL |
EZANA | SIZANA | FEREDE
FACHETTI | NELITO | DE MELLO
FAHERTY | MICHAEL | PATRICK
FALKENBERG | MICHAEL |
FARINA | VELCO | GREGORIO
FARNARARO | MARCO |
FATTOUH | ALIA |
FELDMAN | JODY | TERENCE
FELSKIE | DONNA | MARIE
FERRER-VIEYRA | ENRIQUE | IGNACIO A.
FERRIS | MICHAEL | KEITH
FIJAL | KATRINA | MARIE
FISCH | MYRIAM | TATIANA CECILE
FISHER | ADELAIDE | JEAN
FISHER | SALLY | ANN
FLORES | STEPHANIE | NICHOLE
FONG | RYAN THOMAS | QUI
FORBER | CHRISTINE | LILIAS
FORD | CAROLYN | KUHN
FORKINK-WEIJERS | ANNET |
FORSTER SPIESS | KATHERINE | A.
FOSKEY | ROBERT | JEROME
FRAHM | FREDRIC | FRANCIS
FREGNI | MARCO |
FREI | BRIDGET | ANGELA
FREI | RETO | PATRICK
FRIBERG | GUSTAV | ROBERT ESKIL
FRICK | ALINA | JANICE
FRIEND | LINDA | ANNE HALTERLEIN
FROGGATT | JONATHAN | ANTHONY
FUAD | TUROCHAS | CHRISTEVE
FUCHIGAMI | HYOJA | TAKAKO
FUCHIGAMI | NOBUMICHI |
FUJIMURA | MIHO |
FUKAO | TAEKO |
FUNG | STEPHEN | Y.
FUNIAK | STANISLAV |
GADKARY | NALINI |
GAGNON | CHARLES | ALEXANDRE
GALLER-SMITH | BARBARA | JEAN
GALSIER | SUSAN | OLIVE
GAMARRA | LUIS | ALBERTO
GAO | YAN |
GAO | YONGJING |
GAO | MICHAEL | TIANYU
GARFIELD | JOSHUA | BENJAMIN BERNARD
GARRO JOUBERT | VIRGINIE | ANITA SYLVIANE
GASPARD | DIMITRI | ANDRE JULES GEORGES
GER | LEE | KYLE
GERBER | THOMAS |
GERSDORF | MARTIN | KARL
GHANDOUR | LOUAY | MONZER
GILL LYONS | KIRSTIE | ELLEN
GIRAUD | FRANCK | U.
GIURGOLA | PAOLA | FRANCES
GLASER | STANLEY | LLOYD
GLICK | BRIAN |
GLICK | HEATHER | MARIE
GNATOVICH | ROBERT | DOUGLAS
GODDARD | KATHLEEN | CHERYL
GOLDEN | JAMES | RICHARD
GOMES | MARCOS | S.
GOOD | MICHAEL | BRUCE HOLMBERG
GOODIN | BRETT | GARRETT
GOODMAN | NANCY | STEWART
GORDON | EMILY | MEREDITH
GORWILL | THOMAS | JOHN
GOULD | THOMAS | P.
GRAF | REINHARD | JOSEF
GRAHAM | SUSAN | BARBARA
GREAVES | BRENDA | JOY
GREENBERG | JONATHAN | S.
GREEVES | KELLY | ANNE
GREIG | EMILY | JANE
GRENNBERG | JOHAN | GUNNAR
GRIESHABER-OTTO | RHODA | SUSAN MARIE
GRONDIN | FRANCOIS | RENE
GRZANKA | SYLVIA | ANN
GU | WANG-PING |
GUDE | PETER | JEAN
GUENETTE | MARIE | FRANCE
GUERIN | JONATHAN | RUDY
GULBINSKA | MALGORZATA | KRYSTYNA
GUMY | ETIENNE | EDOUARD ALEXANDRE
GUNNING | DIANNIE | CAMIEL
GUSTAVSSON | SARA | MARIA
GWILYM | PATRICIA | EDNA
HAGER | KENDALL | N.
HALLIWELL | STEVEN | JOHN
HALLORAN | MAURA | C.
HAMAGATA | TAKANORI |
HAMILTON | DANIEL | THOMAS
HAMILTON | GILLIAN | MAE
HAMMOND | JOHN | CAMERON
HAMMOND | KEITH | EUGENE
HANES | WENDY | DENISE
HANSEN | CHARLOTTE | MARGARETE
HARMON | PAMELA | JUNE
HARRIS-MCLEOD | KATY |
HARRISON | CATHERINE | JOANNE
HARROL | NATHANIEL |
HARTENSTEIN | HANS | ULRICH
HARVEY | JEROMY |
HASEGAWA | KAORIKO |
HAUSER | RON |
HAYASHI | SHUNICHI |
HAYES | DEIRDRE | MAEVE
HAYES | TREVOR | C.
HEALEY | JULIE | L.
HEALY | JULIA |
HEATLEY | CARL | GERRARD
HEDFORS | ANITA | MARGARETA
HEINDENREICH | HANS | PETER
HEINEIKE | AMY | RACHEL
HELLEM | KENNETH | MICHAEL
HELMORE | PAUL | JOHN
HERCUS | MICHAEL | MCDONALD MACKY
HERDIN | WENDY |
HERO | VALERIA | C.
HEROLD | SYLVIE | ELLEN
HESSELINK | TRICIA | LEIGH
HEWSON | ROBIN | FREDRICK
HEZKY | JODI | ANN
HIARI | OMAR | M.A.
HIGBEE | POLLYANNE | HESTER
HILL | LARA | KATHERINE
HILTUNEN | KIRSI | HELENA
HIOE | HELEN |
HIRS | LAURIN | D.
HITOMI | CHIHARU |
HJALBER | JAN | JOHAN ANDREAS
HO | ANNA | KATO
HO | BEVERLY | PUI YING
HO | CHENG | CHUN
HO | HSIN | TSUNG
HOEFLING | LAURA | JEAN
HOEKSTRA | JEROEN | PIETER
HOFFMAN | SUSAN | LYNN
HOFSTEDE VOS | JEANNINE | HENRIETTE
HOLMES | DOUGLAS | KELSICK
HOPKINS | ERICA | BERTA
HRECENIUK | STEVEN | SIMEON
HUANG | AARON |
HUANG | HAOLING |
HUANG | HUEY-BEY |
HUANG | JUN | D.
HUANG | LIPING |
HUANG | YING |
HUG | THOMAS | FRANZ
HUGGINS | STORMY | DAWN SWEET
HUGHES | BARBARA |
HUGHES | SEAN | ANDREW
HUH | CHIHONG | ERIC
HULSBOSCH | JOANNE | ALICE
HUMPHREY | GILLIAN | MARY
HUNTLEY | ELEANOR | LORRAINE
HUO | YUNLONG |
HWANG | YOON |
IBARGUEN VILLA | ALVARO | ANTONIO
IHARA | TAISEI |
IIMURO | CHIEKO |
IMAGAWA | MIYO |
INABA | TSUBASA |
INNES | MELISSA | PLAUNT
IOSEF | CRISTIANA |
IRWIN | ROY | PETER
ISAAC | LEANNE | JANET
ISAAC | MICHAEL | ROBB
ISHIOKA | MARIKO |
ISON | CHIN | TING
ITO | AKIE |
ITO | HIROYUKI |
JACOBS | RACHEL | SADIE
JACOBSON | MANDY | ELYSE
JACQUEMONT | NATHALIE | HELENE
JALLADE | SEBASTIEN |
JARAMILLO GOMEZ | MARIA | FERNANDA
JAROUDI | NADIM | S.
JEFFREYS | KATHARINE | MARY
JOHN | JAYANTHY |
JOHNSEN | ERIK | LEE
JOHNSON | DIEGO | ANDRES
JOHNSON | JAYNE | MERLENE ADELAIDE
JOHNSON | MARC | ANTHONY
JOHNSON | OLIVER |
JOHNSON | RHIANNON | MARIE
JOHNSON | SUSANA | ROMANACH
JOHNSTON | SARAH | ELIZABETH
JOHNSTON | ANDREW |
JONES | APRIL | D.
JONES | CIARA | FITZGERALD
JONES | DAVID | SIMON
JONES | PHILLIP | KEITH
JONES | WILLIAM | BENJAMIN
JUNG | JAE-KOOK |
KADATZ | NANCY | DIANE
KAMIJO | SEIJI |
KANG | TAE | WOOK
KAO | KENNETH | SHIR CHIEH
KATAGI | YOSHINOBU |
KAUFMANN | SILVIA | VERENA
KEARNS | JESSE | EMERTON
KEAYS | MAGNUS | STORM
KEIRSTEAD | PAUL |
KELLY | BOZENA | BEATA
KELLY | BRIDGET | JEAN
KELLY | KATHRYN | ELISE
KELLY | KEVIN | GERARD
KELLY | MEGHAN | CHRISTINE
KERR | LINDA | MARIE
KETSCHER | STEVEN |
KETTLE | ROBERT | CHARLES
KIM | CHUNKYOUNG |
KIM | HEASUNG |
KIM | HEON | SOOK
KIM | HODONG |
KIM | JEONG | SUK
KIM | JONG | SOO
KING | JOHNNY | LOYE
KING | JUDY | CAROL
KIRPALANI | HARESH | M.
KIRTLEY | REBECCA | SARAH LAURA
KITAMURA | ERI |
KLEIN | BIRGIT | SUSANNE
KLEINER | GALIT |
KLEINER | SANDRA |
KNIGHT | JOAN | DIANE
KNOWSLEY | CANDICE | BROOKE DANIELLE
KOEPER | MICHAEL | RALPH
KOIZUMI | MICHI |
KONINGS | ANDREW | JOHN
KONISHI | YASUFUMI |
KOPP | NOEL | J.
KOSLOWSKI | LAUREL |
KOSTLBAUER | NANCY |
KOT | DOMINIK |
KOTBI | ALINA |
KRATOCHVILOVA | HANA |
KROES | ANNE | ROSE
KROMER | ELIZABETH | CHRISTINE
KROMER | ROBERT | GEORGE
KUHNE | PEGGY | A.
KUO | JIAN | MEI
KURITA | MASANORI |
KUROIWA | RINTARO |
KUUSIK | TAAVI |
KWAN | WEI | CHEUK RACHEL
LA TOUCHE | ROBERT | WILLIAM
LADWA | PRANEIL |
LAFORGE | NAOMI | LEA
LAMMIN | JANE |
LAMMIN | ROGER | JOHN
LANCASTER | BARBARA |
LANGBROEK | CATHERINE | ELIZABETH WILHELMINA
LARIVIERE | WILLIAM | ROGER
LARKE-GRASS | CORINNE |
LARSON | MARY | FRANCES
LATIF | TINA |
LAW | CHERYL | J.
LAW, JR | KENNETH | S.
LAWSON | MARGARET | ANN
LEA | NICHOLAS | MATTHEW
LEBRUN | FABIEN | ALBERT
LEDDIE | GRANT | EDWARD
LEDDIE | LOUISE | LESLEY
LEE | CANDACE | YAN WAH
LEE | DENNET |
LEE | GORDON |
LEE | HAO-TI |
LEE | JOOYOUNG |
LEE | MIMI | M.
LEE | SUKCHAN |
LEE AN | HYUN | SOOK
LEESER | CHRISTIAN | FRANK
LEIGH | LEONA | IRENE
LEIGH | TERRENCE | EDWARD
LEITCH | ANDREA | JANE
LEITNER | ZAPHOD | L.
LEMKE | JILL | ELLEN
LEMKE | STEVEN | LLOYD
LEOPOLD | NIKOLAUS |
LERNER | DUSTIN | BRIAN
LETAC | CHRISTOPHE | STANLEY
LI | JEFFREY | J.F.
LI | YONG |
LIEOU | NICHOLAS |
LIGHTBOWN | DAVID |
LIGUORI | YUJI |
LIM | JEKEUK |
LIND | ADAM | CONRAD
LINTON | AARON | JAMES
LIPTON | JONATHAN | ANDREW
LISSEL | CLAUDIA | ELSE
LISSEL | JOACHIM | K.
LITTLEMORE | BENNET | JOEL
LIU | JENNIE | I-CHING
LIU | JING |
LIU | PING-YU |
LIU | SUSAN | HSUN CHI
LOCKHART | PETER | DOUGLAS
LONDONO BRAVO | PABLO |
LONG | ELISHA | SOPHIA
LONG | TOBEN | MICHAEL JAMES
LOUREIRO-RODRIGUEZ | VERONICA |
LOW | JONATHAN | JAMES
LOZERON | EMILY | S.
LUBELL | ADAM | SCOTT
LUDLOW | JEFFREY | VINCENT
LUI | JACQUELINE | CHIU TONG
LYONS | JESSIE | CLARK
MA | HENRY | PACLIAN
MA | ZHIBIN |
MABUCHI | TAKUMA |
MACCARA | ALICIA | MARIE
MACDONALD | HALIMAH |
MACDONALD | KARSTEN |
MACHALE | THOMAS | EDWARD
MACKEY | CONNOR | TEMPLETON
MACKIE-KWIST | MICHAEL | JAKOB THOMAS
MADRABAJAKIS | CHRISTINE | ANTOINETTE
MAES | GERALDINE | FRANCOISE
MAES | NICOLAS | HENRI-JAMES
MAGMER-MEKAAS | JUTTA |
MAGUIRE | SCOTT | HARMON
MAHER | LESLIE | LOUISE
MAHER | PETER | FRANCIS
MALMGREN | LENA | ELISABETH
MAMONDEZ | MAXIMILIANO |
MANNYNVALI | ALLAN |
MANSUR | DEREK | JORDAN
MARCHAND | ERIC | BENJAMIN
MARKS | CAMERON | MARIE
MARKS | TEDDY | RAY
MARRIOTT | JAMES | ANTHONY PATRICK
MARSAULT | JUSTINE | INGRID
MARSAULT | NADIA | VIRGINIA MARIE
MARSHALL | SCOTT | ROBERT
MARTEL | MARC | JOSEPH
MARTEN | KENT | M.
MARTENS | JULIA | DIANA
MARTIN | YAN |
MARTINDALE | LYNN | MARIE ARMANDE
MARXER | RAY | W.
MASON | BARBARA | JOYCE
MASSOL | HELENE | JEANNE JELINE
MASUDA | KAYOKO |
MATIC | IGOR |
MATOUS | MILAN |
MATSUMOTO | NORIKO |
MAYNE | DAVID | ANTHONY
MAYSER | LIDIA |
MBUNGU | MICHAEL | SONA
MCCARTHY | SARAH | A.
MCCUNN SEGUIN | SUSAN | MARY
MCCUSKEE | JUDY | LYNN
MCDONALD | FERGUS | BARTON
MCHENRY | JACQUELINE | A.
MCINNES | SHARON | THERESE
MCINTYRE | PAUL | HENRY HESSLER
MCNEIL | BRANNAN | JACOB
MCNEIL | CRAIG | RUSSELL
MCPHAIL | KATHRYN | MARGARET
MCPHAIL | ROBERT | JAME FIELD
MCPHEE | WILLIAM | ALEXANDER
MEAN | JOHN | NATHAN
MEEK | DEBBIE | GWEN
MEGIN | VIRGINIA | MARIE
MELIEF | PIET | HERMAN GERARD JAN
MELLES | HELENE |
MELLES | JAN | ANNE
MELNIK | AUDREY |
MELVILLE | IAIN | A.
MENON | ANGIRAS |
MERKLI | PATRICK | PETER
MESA GOMEZ | CARLOS | EDUARDO
METZNER | NICOLE | KATHLEEN
MEYER | ERIC | MCCLEAN
MEYER | PHILLIP | MICHAEL
MICHELI | CHARLOTTE | ELIZABETH ANN
MICHELI | GIOVANNA |
MILLICE | CHRISTOPHER | GLENN
MILLIGAN | CHRISTOPHER | PATRICK
MILLS | JONATHAN | BRIAN
MITSUGI | SANAKO |
MIYASHITA | TADASHI |
MOCHIMARU | AKIRA |
MOLLOY | CHRISTINE | LOUISE
MOLLOY | PETER | LAURENCE
MOOSMUELLER | ANETTE | REGINA
MORIMOTO | KANAKO |
MORSE | DEBORAH | JUNE
MORSE | PETER | PHILLIP
MOSHER | KARA | MICHELLE
MOSS | ROBERT | GRAEME
MOXLEY | HEATHER | JANE
MUDRONCIKOVA | MARINA |
MUNRO | CANDACE | RACHEL
MUNZAR | MATTHEW | D.
MURSET | CHRISTOPHER | ALAIN
MUTHUSAMY | GOKILAVANI |
NAGALLO | ROSE | MARIE LAMADRID
NAGI | RIKA |
NAGI | YUJI |
NAISBITT | LOUISA | SLADE
NAKAMURA | JUNYA |
NARITA | AYANA |
NATALE | MARCO |
NAUMANN | MARCUS |
NAUMANN | NICOLA | R.
NAWIJIN | JACOB | ARJEN
NELSON | LYNN | ANNE
NESFIELD JR | WINSTON | STEPHEN
NEUENHOFER | BEATE |
NEUENHOFER | ANSGAR |
NEVEU | SOPHIE | EVELYN
NEWMAN | STACEY | ARALEE
NEWSOM-PRAVETZ | NANCY | LILLIAN
NG | TING | FAI
NG | WARREN | BRIAN HA HEI
NICHOLLS | PETER | ALAN
NIGGEMANN | LOTHAR |
NOIRCENT | URSULA | JASMINE NATALIE
NOLAN | THOMAS | JOHN
NOONAN | MICHAEL | GREGORY
NOONAN | SILVIA | FRANCESCA
NORDMAN | PAULI | HENRIK
NORFLEET | TERESA | JEANETTE
NORTON | DONALD | WILLIAM
NOURRY | DOMINIQUE |
NUTTING | JACQUELINE | DANIELLE
OH | HYUN | MYUNG
OLBRECHTS | ANNIK | MARIA
OLDFIELD | SANDRA | MARIE
O'NEIL | DONNA | LOUISE
OOMS | MARGARET | JOANS
OORT | ROBERT | MAARTEN
OPPERMANN | NINA | MARIE CHARLOTTE
ORD | WILLIAM |
ORELLANO | MARINA | VALERIA FERNANDEZ
ORELLANO | VERONICA | INES FERNANDEZ
ORRIS | ANDREW | WILLIAM
OSBORN | KATHERINE | WENDY
OSSEY | ROBERT | ALAN
OSSWALD | LUCA |
OSTERLAND | MICHAEL | KIRK
OVENS | TYLER | J.
OWCHAR | MATTHEW | J.
PACE II | JAMES | E.
PAGE | RYAN | JOHN
PAGE | SAM | STUART
PALMER | MARK |
PALMERS | TANJA | NORA
PALSETIA | ADIL |
PANAYI | DEMETRIS | G.
PARK | SHIRLEY | SUNGMIN
PARK | SUNG | JIN
PASTORIUS | KAREN | SUSAN
PATANKAR | RAJESH | SHARADKUMAR
PATEL | DAKSHA | DUSHYANT
PATEL | SHRUTI | MANUBHAI
PATEL | JANAK |
PATRIC | KEVIN | LAWRENCE
PAUL | ERIN | SARAH
PERLMAN | ROSEMARY | JANE
PERRY | BRENDA | SUSAN
PERRY | EMIKO | ISHIGAKI
PFALTZ | MONIQUE | CHRISTINE
PHENIX | CARL |
PICHLER | MARKUS | JOHANNES
PICKARD | BENJAMIN | CHARLES
PIEPER | GRIETJE | GEESJE
PIER | LEJUNE | ANN
PIIRONEN | PATRICIA | CLARK
PIRRE | SALVATRICE |
PISANO | PAULO | ALEXANDRE
PITT | ALEXANDER | CALEB
PLANERT | SILKE | CHRISTA
POHL | JOHN | JOSEPH
POHL | MARIA | G.
POIRIER | DENNIS |
POLIAK | HARRY | RAPHAEL
POLZ | MARTIN | F.
PONTONI | GIANNA |
POWERS | MICHAEL |
PRALORAN | JEAN | PIERRE
PRANGER | JEE | HYEON
PRESNELL | MARK | ALLEN
PRICE | AMANDA | LOUISE
PRICE | JANICE | CHRISTINA
PRUDOVSKAYA | YELIZAVETA | IGOREVNA
PRYTULA | JENNIFER | MAY
PURDY | BENJAMIN | LEE
QI | XIANGBING |
QI | XIN |
QU | TAO |
QUINN | EWELINA | BARBARA
RANSOM | CLAIRE | CATHERINE
RANSOM | MICHAEL | JOHN
RAO | CHANDRAMOULI |
RAVARD | MARC | HERVE CHRISTIAN
RAVENA | PERSIO | PIMENTEL PINTO
RAVENA | SILVANA | LACRETA
RAYES | LUIS | EDUARDO CABRINI
READ | DAVID |
REID | DUSTIN | TYLER
REISCHL | CHRISTINE | MARIA
REMAI | PAMELA | JOYCE
RESING | JOANN | MARIE
REYNOLDS | PHILIP | LYNDON
RHODES | HELEN | MARGARET
RICE | HELEN | D.
RICE | THOMAS | MAURICE
RICHARDSON | SUSAN | JANE
RIDD | LYDIA | MARY
RIGBY | ROMAIN | ALEXANDER
RIGDEN | CHRISTINE | ELAINE
RIGHETTI | JENNIFER | BRIE
RIJNBEEK | FRANCIS | JOHN
RIVAS | JUAN | ANTONIO
ROBINSON | JENNIFER | ANNE
ROBSON | LUCY | SARAH JANE
ROGERS | CHARLES | PHILIP
ROGERS | JONATHAN | LEE
ROGERS | LAWRENCE | JAMES
RONCETTI | VIRGINIA | LAURA
ROSANOVE | ELIZABETH | ANN
ROSANOVE | MERRIANNE |
ROSE | GRAHAM | R.
ROSE | MICHAEL | ROBERT
ROVERSI | BARBARA | ANNA MARISA
ROWE | ANNA | ENWA
ROWLAND | KELLY | BROOKE
ROY | VIRGINIA | MARGARET
ROYAARDS | MICHAEL | ANTHONY
RUBENSTEIN | PAUL | NORMAN
RUBIN | JAMES | PHILIP
RUBIN | MARK | SAMUEL
RUEHLI | JONATHAN |
RUEHLI | LILLIANE |
RUSSELL | RANDY |
RUSSETT | ROBERT | WILLIAM JAMES
RYU | HANSUK |
SACH | ROSEMARIE |
SADEGHI | KIANOUSH |
SANDFORD | SUSAN | ELODIE
SANDS | BARBARA |
SANDS | PETER | EDWARD
SANTOS | CRISTOFER | PAUL
SAROYA | PRABHJOT | SINGH
SAUNDERS | MONIKA | ELLY BERNARDI
SAUTER | ILAN | B.
SAWYER | ANGELA | MARY MANGAN
SCHANK | SUSAN | S.
SCHAPER | PETER |
SCHIRMER | TRACY | LOUISE
SCHMIDT | BARBARA | K.
SCHONFELDER | FRANCESCA | LARAH
SCHOOLCRAFT | RONALD | ALFRED
SCHULER | ISABELLE |
SCHUSTER | BARABRA |
SCHUTH | VOLKER |
SCHWARTZ | DAVID | THOMAS
SCHWEIZER | JULIANNE | M.
SEGALL | ALLAN | JEFFREY
SEGEM | JOSEPH |
SELENTA | CHRISTOPHER | TADEUSZ
SELVAGGI | GIAMBATTISTA |
SEMPERT | MARTHA | ANN
SERVANTE | JULIE | ANNE
SEWARD | EMILY | ANN
SHAVER | KAREN | ISABEL MAISIE
SHEE | ANNKARIN | WONG
SHEN | HONG |
SHEN | YUSHI |
SHIN | JONGU |
SHIRLEY | TEAGAN | SHAE
SHOEMAKER | DAVID | MICHAEL
SILVERSTEIN | HELEN | RAE
SKAGGS | JOHN | PHILLIP
SKEDZUHN | TIMOTHY | JAMES
SKULEVOLD | SILJE | KARIN
SLATER | DEBORAH | JANINE
SLATER | JORDAN | LEE
SMIRNOV | NIKOLAI |
SMITH | KEVIN | DENIS
SMITH | PATRICK |
SMITH | DEBORAH | ANNE
SNOW | VICTORIA | MARIE
SNYDER | RICHARD | KEITH
SOLWAY | MARTIN | EDWARD
SOMERVILLE | ROBERT | D.
SOMMER | ROBIN |
SON | YOUNG-CHAN |
SPENCE | JOHN | R.
SPENCE | MICHAEL | BRYN
SPERLING | VERA |
SPINGLER | MARKUS | STEVEN
SPOERRI | MICHAEL | CHARLES
SPRATLING | DREW | BAER
SPRATLING | HAYLEY | BAER
SPROUL | BRETT | HOWARD
STANTON | ELIZABETH | JANE
STELPSTRA | DONNA | JOY
STEPHENSON | JAMES | DAVID
STEVENS | ALEXANDRA | ELISABETH
STEVENS | ELIZABETH | A.
STEWARD | STEFANIE | JANE
STEWART | WENDY | HEATHER
STOECKL | NATALIE | ELAINE
STOLL | CATHERINE | LOUISE
STRAS | LAURIE | A.
STRAUB | ANGELA | BRIGITTE
STUBENBAUM | KARIN | MARIA
STUCKI | IRENE | A.
SUGE | YUICHI |
SUGO | DAISUKE |
SUGO | YOKO |
SULLIVAN | EDWARD | W.
SULLIVAN | JENNIFER | MARIA
SUN | CHEN |
SUN | ZHENG |
SUNDJAJA | ANDREW |
SUTER | LUIS | JAKOB
SUTORIUS | PHILIP | ERNEST
SWEET | BRIAN | RICHARD
TAEGER | AARON | DAVID
TAKAGI | ERIKO |
TAKANO | YOKO |
TAMIYA | TAKURO |
TAMURA | MARIKO |
TAN | ELIZABETH | HSIU-CHIN
TAN | ENG | HENG
TAN | MARLONE | JOHNSON LU
TANG | BETTY |
TANNER | GEORG | MICHAEL
TAYLOR | SCOTT | THOMAS
THACKER | HITESH | RAMESH
THERRIEN | JOAN | MARY ANN
THESINGH | FAITH | C.
THOMPSON | CHRISTOPHER | EDWARD
THOMPSON | MARK | ELLIOT
THOMPSON | MARTYN | PETER
THOMSEN | CHAD | RICHARD
THONG | EDWIN | MULIANTO
THUAUX | MARK | JOSEPH
TIMMERMAN | JOSE | ROBERT
TIMOTHEE | DE VALENCE DE MINARDIERE |
TINKER | NICOLAS | ANDREW
TISSERAND | ALEX | PIERRE DANIEL
TJEERDEMA | RUURD |
TODD | SANDRA | BETH
TONG | TOBY | MAY YANG
TOYODA | YUKIHIKO |
TRELEWICZ | JENNIFER | QUIRIN
TRUSCOTT | JANE | ELIZABETH
TUER | MICHELLE |
TURNER | BRANDON | DEAN
UBOLDI | MARY | SANTINA COLOMBO
UDY | ANNE | BENUA
UNGER | RUSSELL | BRIAN
UPCROFT | BENJAMIN |
VALENTIN | CHARLOTTE |
VALERI | MICHAL |
VAN BENTUM | SHANE | CHARLES
VAN DER EIJK | BRITTA |
VAN DER MEER | BROOKE | LYDIA
VAN DIJK | MARTEN | ERIK
VAN EVRA | SUSAN | ELIZABETH
VAN HOUTTE-VERDOCK | MARGRIET | M.
VAN KATAWIJK | CORNELIS | MICHIEL
VAN OOSTERHOUT | BIANCA | F.
VAN POEDEROOYEN | JASON | ARIE
VAN STEK | ROB |
VAN VEEN | ALBERT | JOHN BERNARD
VAN VLIET | JADA |
VAN ZUILEN | MICHAEL | CORNELIS
VANDENBORRE | KATHERINE | MARIA
VANDERKOOI | WILLIAM | KENNETH
VANDERSTICHELEN | MARIA |
VARMA | SONIA |
VARTAK | AARTI | JAYESH
VARTAK | JAYESH | SADANAND
VASILENKO | ALEXEY |
VAUTIN | SARAH | FENWICK
VECHALAPU | CHINA | B.
VERDOUW | BIRGIT | KAREN
VILLAR | CRISTINA | CUNHA
VINCIGUERRA | OLIVIER |
VOGELE | SILVIA | LYNN
VOIRUL | NICOLAS | C.Y.
VON BONIN | HELLA | REGINA
WAGENER | GUY | HENRI
WAGENER FRANTZ | CHANTAL | M.
WAJON | SALLY | ELIZABETH
WAKULICZ WILLIAMS | MEGHAN | LEAH
WALKER | ANA | QING
WALKER | BRENDA |
WALKINTON | RACHAEL | CATHARINE
WALLENBERG | MAUD |
WALLER | JOSEPH | DOUGLAS
WALLISER | MARC | RENE
WALLISER | TINA | NASTASJA
WALTON | EMILY | BETH
WALTON | JOHN | WESLEY
WANG | HUBIN |
WANG | YANDONG |
WARD | ANDREW | JAMES
WARDLAW | STEPHEN | JAMES
WARK | AMY | SUZANNE
WARNING | ROBERT | GEORGE
WARREK | RICHARD | ARTHUR
WASSEN | ANNE | HELENE
WATANABE | KENICHI |
WATANABE | KIMIKO |
WATERHAM | MICHELLE | MARIE
WATERS | LORI | LYNN
WATERS | RACHEAL | ELIZABETH
WEBB | CATHERINE | ANN
WEBBER | MARTYN | DAREN
WEBER | SIMON | PAUL
WECK | STEFAN |
WEI | SIJIE |
WEI | YIQING |
WEIDENMUELLER | BERND |
WEIDENMUELLER | VIOLA |
WEIJERS | HUBERTUS | WILHELMUS
WEISS | TIANA | SARA
WEITZEL | URSULA | EVERLYN ADRIANA
WEN | SHUHAO |
WENGER | ILEANA |
WENGER | RHONA |
WENTZEL | ELIZABETH | JEAN
WERNER | DAGMAR | UTE
WETTSTEIN | MARKUS | FELIX
WHITEBREAD | STEVEN | E.
WHITING | CAROLYN |
WIDMER | REGINA | ELIZABETH
WILKIN | SABINE |
WILKINSON | PETER | RICHARD
WILSON | CONOR | MICHAEL
WILSON | MARIE | ELAINE
WILSON | MICHAEL | RICHARD
WILSON | NICOLE | MARIE
WINK | ANDRE |
WINSLETT JR | JAMES | R.
WINTERSON | JEREMY | ALEXANDRE
WIRTH-TECKENTRUP | ALEXANDRA |
WONG | CARMEN |
WONG | CHE | PING
WOO | AMANDA |
WOOD | LAUREN | EMILY
WOOD | MORAG | FINLEY
WOOD | PAUL |
WOODS | JONATHAN | ROBERT
WORSFOLD | JOCELYN | MARGARET
WRIGHT | SUSAN | JEAN
WU | LAN |
WU | XIAOHAN |
XIE | LILING |
XU | HONG |
XU | WEI |
YAMADA | TEIKO |
YAMANI | OMAR | A.
YAMASHITA | ALEXANDER | HAN
YAMNIUK | AARON | PAUL
YAMNIUK | LEANNE | JOY
YANG | LIULIU |
YANG | YING |
YOKOMURA | KAZUNORI |
YONER | CLINTON | PETER
YONG | KEN | TYE
YOSHIDA | YUKO |
YOSHIDA | YUTAKA |
YOSHIMURA | MITSUAKI |
YOUNG | JOSEPH | HARRISON
YU | SHENG-SUNG |
YUAN | TSZ | HO DANNY
YUEN | FAYE | HUGH
ZARGARYAN | ARTHUR |
ZAYAN | ADLEY |
ZEEVY | MICHAL | G.
ZENG | WEN |
ZHANG | XIAOJUN |
ZHANG | YUMEI |
ZHAO | ALLEN |
ZHAO | LIJIE |
ZHENG | XUFEI |
ZHOU | JIANXIN |
ZHU | CHAO |
ZHU | MINGDI |
ZIS | ODYSSEUS | TAKIS
ZOBL | THOMAS |

Dated: January 24, 2023.
Steven B. Levine,
Manager Team 1940, CSDC—Compliance Support, Development & Communications.

[FR Doc. 2023-01681 Filed 1-26-23; 8:45 am]

BILLING CODE 4830-01-P